DEPARTMENT OF COMMERCE

International Trade Administration

Initiation of Antidumping and Countervailing Duty Administrative Reviews, Requests for Revocation in Part and Deferral of Administrative Reviews

AGENCY: Import Administration, International Trade Administration, Department of Commerce.

ACTION: Notice of initiation of antidumping and countervailing duty administrative reviews, requests for revocation in part and deferral of administrative review.

SUMMARY: The Department of Commerce (the Department) has received requests to conduct administrative reviews of various antidumping and countervailing duty orders and findings with August anniversary dates. In accordance with the Department's regulations, we are initiating those administrative reviews. The Department also received requests to revoke two antidumping duty orders in part and to defer the initiation of an administrative review for one antidumping duty order.

EFFECTIVE DATE: September 25, 2002.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2001), for administrative reviews of various antidumping and countervailing duty orders and findings with August anniversary dates. The Department also received a timely request to revoke in part the antidumping duty order on Pure Magnesium from Canada.

During the last anniversary month, the Department failed to note that we received a timely request to revoke in part the antidumping duty order on Canned Pineapple from Thailand (67 FR 55000). In addition, the Department received from the same party a request to defer for one year the initiation of the July 1, 2001 through June 30, 2002 adminstrative review of this exporter in accordance with 19 CFR 351.213(c). The Department received no objection to this request from any party pursuant to 19 CFR 351.213(c)(1)(ii).

Initiation of Reviews

In accordance with sections 19 CFR 351.221(c)(1)(i), we are initiating administrative reviews of the following antidumping and countervailing duty orders and findings. We intend to issue the final results of these reviews not later than August 31, 2003. On August 27, 2002, (67 FR 55000) the Department inadvertently initiated an administrative review with respect to one exporter of Canned Pineapple Fruit from Thailand. We are now rescinding that review and, in accordance with 19 CFR 351.213(c), deferring for one year the initiation of the July 1, 2001 through June 30, 2002 administrative review of the antidumping duty order on Canned Pineapple Fruit from Thailand with respect to that exporter.

| Period to be reviewed
Antidumping Duty Proceedings
Argentina
Oil Country Tubular Goods, A-357-810 | 8/1/01-7/31/02
Acindar Industria Argentina de Aceros, S.A.
Siderca, S.A.I.C.
Brazil
Seamless Pipe, A-351-826 | 8/1/01-7/31/02
V & M do Brasil S.A.
Canada
Corrosion Resistant Carbon Steel Flat Products, A-122-822 | 8/1/00-7/31/02
Dofasco, Inc.
Stelco, Inc.
Pure Magnesium, A-122-814 | 8/1/01-7/31/02
Magnola Metallurgy Inc.
Norsk Hydo Canada, Inc.
Italy
Granular Polytetrafluoroethylene (PTFE) Resin, A-475-703 | 8/1/01-7/31/02
Ausimont SpA
Mexico
Carbon and Alloy Seamless Standard, Line and Pressure Pipe (Over 4½ Inches), A-201-827 | 8/1/01-7/31/02
Tubos de Aceros de Mexico, S.A.
Cut-to-Length Carbon Steel Plate, A-201-809 | 8/1/01-7/31/02
Altos Hornos de Mexico, S.A. de C.V.
Gray Portland Cement and Clinker, A-201-802 | 8/1/01-7/31/02
GCC Cementos, S.A. de C.V.
CEMEX, S.A. de C.V.
Apasco, S.A. de C.V.
Oil Country Tubular Goods, A-201-817 | 8/1/01-7/31/02
Tubos de Acero de Mexico S.A.
Republic of Korea
Corrosion-Resistant Carbon Steel Flat Products, A-580-816 | 8/1/01-7/31/02
Dongbu Steel Co., Ltd.
Pohang Iron and Steel Co., Ltd.
Union Steel Manufacturing Co., Ltd.
Oil Country Tubular Goods, Other than Drill Pipe, A-580-825 | 8/1/01-7/31/02
SeAH Steel Corporation
Husteel Co., Ltd. (formerly Shinho Steel Co., Ltd.)
Structural Steel Beams, A-580-841 | 8/1/01-7/31/02
Dongkuk Steel Mill Co., Ltd.
INI Steel Company (formerly Inchon Iron & Steel Co., Ltd.)
Romania
Certain Small Diameter Carbon and Alloy Seamless Standard Line and Pressure Pipe (Under 4½ Inches), A-485-805 | 8/1/01-7/31/02
Silcotub, S.A.
The People's Republic of China | Petroleum Wax Candles,¹A-570-504 | 8/1/01-7/31/02
Dongguan Fay Candle Company, Ltd.
Generaluxe Factory
Guangdong Xin Hui City Si Qian Art & Craft Factory
Sincere Factory Company
Qingdao Kingking Applied Chemistry Co., Ltd.
DDP Qingdao
ADP (Ningbo, PRC)
ADP Shanghai
Allock Ltd.
Amstar Business Company Limited
Anyway International Trading & Manufacturing Co., Ltd.
Huangyan Imp. & Exp. Corp.
Aroma Consumer Products (Hangzhou) Co., Ltd.
Candle World Industrial Co.
China Hebei Boye Great Nation Candle Co., Ltd.
China Overseas Trading Dalian Corp.
China Packaging Import & Export Liaoning Co.
China Xinxing Zhongyuan (Wuhan) Imp. & Exp.
CNACC (Zhejiang) Imports & Export Co., Ltd.
Cnart China Gifts Import & Export Corp.
Dalian Hanbo Lighting Co., Ltd.
Dandong Hengtong Handicraft Article Co., Ltd.
Dandong Hengtong Handicraftarticle Co., Ltd.
Ever-gain Industrial Co.
Excel Network Limited
Far Going Candle Gifts Co., Ltd.
Dongijeng Fecund Imp. & Exp. Co. Ltd.
Fujian Provincial Arts & Crafts Imp. & Exp. Corp.
Fu Kit
Fushun Candle Corporation
Fushun Economy Development Zone Xinyang Candle Factory
Fushun Huaiyuan Wax Products Co., Ltd.
Fushun Yuhua Crafts Factory
Fushun Yuanhang Paraffin Products Industrial Company
Gansu Textiles Imp. & Exp. Corp.
Green Islands Industry Shanghai Co. Ltd.
Huangyan Imp. & Exp. Corp.
Jason Craft Corp.
Jiangsu Holly Corporation
Jilin Province Arts and Crafts
Jiangsu Yixing Foreign Trade Corp.
Jintan Foreign Trade Corp.
Kingking A.C. Co., Ltd.
Kuehne & Nagel (Hong Kong) Beijing
Kwung's International Trade Co., Ltd.
Liaoning Arts & Crafts Import & Export
Liaoning Native Product Import & Export Corporation, Ltd.
Liaoning Light Industrial Products Import & Export Corp.
Liaoning Light
Liaoning Province Building Materials Industrial Im
Liaoning Xinyuan Textiles Import and Export
Li & Fung Trading Ltd.
Lu Ke Trading Co., Ltd.
Ningbo Free Zone Top Rank Trading Co.
Ningbo Free Trade Zone Weicheng Trading Co., Ltd.
Ningbo Kwung's Giftware Co., Ltd.
Ningbo Kwung's Import & Export Co.
Ningbo Sincere Designers & Manufacturers Ltd.
Premier Candle Co.
Qingdao Allite Radiance Candle Co., Ltd.
Qingdao Happy Chemical Products Co., Ltd.
Qingdao Kingking Applied Chemistry Co., Ltd.
Quanzhou Wenbao Light Industry Co.
Red Sun Arts Manufacture (Yixing) Co., Ltd.
Rich Talent Trading Ltd.
Round-the-World (USA) Corp.
Round-the-World International Trade & Trans. Service (Tianjin) Co., Ltd.
Seven Seas Candle Ltd.
Shandong H&T Corp.
Shangdong Jiaye General Merchandise Co. Ltd.
Shandong Native Produce International Trading Co., Ltd.
Shanghai Asian Development Int'l Tr
Shanghai Broad Trading Co. Ltd.
Shanghai Charming Wax Co., Ltd.
Shanghai Gifts & Travel
Shanghai Gift & Travel Products Import & Export Corp.
Shanghai Jerry Candle Co., Ltd.
Shanghai Ornate Candle Art Co., Ltd.
Shanghai New Star Im/Ex Co., Ltd.
Shanghai Sincere Gifts Designers & Manufacturers, Ltd.
Shanghai Shen Hong Corp.
Shanghai Success Arts & Crafts Factory
Shanghai Xietong Group O/B Asia 2 Trading Company
Shanghai Zhen Hua c/o Shanghai Light Industrial Int'l Corp., Ltd.
Silkroad Gifts
Simon International
Suzhou Industrial Park Nam Kwong Imp & Exp Co., Ltd.
Suzhou Industrial Park Nam Kwong Imp & Exp Co., Ltd.
Tianjin Native Produce Import & Export Group Corp., Ltd.
Taizhou International Trade Corp.
Taizhou Sungod Gifts Co., Ltd.
Thi Group Ltd. and THI (HK) Ltd.
T.H.I.. (HK) Ltd.
THI (HK) Ltd.
Tonglu Tiandi
Shanghai Arts and Crafts Company
Universal Candle Company Ltd.
Weltach
World-Green (Shangdong) Corp., Ltd.
World Way International (Xiamen)
Xiamen Aider Import & Export Company
Xiamen C&D Inc.
Xietong (Group) Co., Ltd.
Zen Continental Co., Inc. (Shanghai Office)
Zhejiang Native Produce & Animal By-Products Import & Export Corp.
Zhong Hang-Scanwell International
Zhongnam Candle
Zhong Nam Industrial (International) Co., Ltd.
Zhongxing Shenyang Commercial Building (Group) Co., Ltd.
Sulfanilic Acid ² A-570-815 | 8/1/01-7/31/02
Boading Mancheng Zhenxing Chemical Plant
Xinyu Chemical Plant
Yude Chemical Industry, Co.
Zhenxing Chemical Industry, Co.
Countervailing Duty Proceedings
Canada
Alloy Magnesium, C-122-815 | 1/1/01-12/31/02
Magnola Metallurgy Inc.
Norsk Hydro Canada Inc.
Pure Magnesium, C-122-815 | 1/1/01-12/31/02
Magnola Metallurgy Inc.
Norsk Hydro Canada Inc.
France
Stainless Steel Sheet and Strip in Coils, C-427-815 | 1/1/01-12/31/01
Ugine S.A.
Usinor
Italy
Certain Pasta, C-475-819 | 1/1/01—12/31/01
IAPC Italia Srl.*
*Company inadvertently omitted from previous initiation notice.
Mexico
Cut-to-Length Carbon Steel Plate, C-201-810 | 1/1/01-12/31/01
Altos Hornos de Mexico, S.A. de C.V.
Republic of Korea
Stainless Steel Sheet and Strip in Coils, C-580-835 | 1/1/01-12/31/01
INI Steel Company
BNG Steel Company (formerly Sammi Steel Co.)
Suspension Agreements
None.
Period to be Deferred
Deferral of Initiation of Administrative Review
Thailand
Canned Pineapple Fruit, A-549-813 | 7/1/01-6/30/02
Siam Food Products Company, Ltd.
¹ If one of the above named companies does not qualify for a separate rate, all other exporters of petroleum wax candles from the People's Republic of China who have not qualified for a separate rate are deemed to be covered by this review as part of the single PRC entity of which the named exporters are a part.
² If one of the above named companies does not qualify for a separate rate, all other exporters of sulfanilic acid from the People's Republic of China who have not qualified for a separate rate are deemed to be covered by this review as part of the single PRC entity of which the named exporters are a part.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: September 20, 2002.
Holly A. Kuga,
Senior Office Director, Group II, Office 4, Import Administration.

[FR Doc. 02-24360 Filed 9-24-02; 8:45 am]

BILLING CODE 3510-DS-P